DEPARTMENT OF ENERGY

Federal Energy Regulatory Commission

Combined Notice of Filings #1

Take notice that the Commission received the following electric corporate filings:

Docket Numbers: EC13-55-000.

Applicants: Choctaw Generation Limited Partnership, PurEnergy I, LLC.

Description: Application for Authorization under Section 203 of the Federal Power Act and Request for Confidential Treatment and Waivers of Choctaw Generation Limited Partnership and PurEnergy I, LLC.

Filed Date: 12/28/12.

Accession Number: 20121228-5259.

Comments Due: 5 p.m. ET 1/18/13.

Docket Numbers: EC13-56-000.

Applicants: Fox Energy Company, LLC, Fox Energy OP, L.P., Fox River Power, LLC, Wisconsin Public Service Corporation.

Description: Section 203 Application of Fox Energy Company, LLC, Fox Energy OP, L.P, Fox River Power, LLC, and Wisconsin Public Service Corporation.

Filed Date: 12/28/12.

Accession Number: 20121228-5261.

Comments Due: 5 p.m. ET 1/18/13.

Docket Numbers: EC13-57-000.

Applicants: Northampton Generating Company, L.P.

Description: Application for Authorization for Disposition of Jurisdictional Facilities and Request for Expedited Action of Northampton Generating Company, L.P.

Filed Date: 12/28/12.

Accession Number: 20121228-5263.

Comments Due: 5 p.m. ET 1/18/13.

Take notice that the Commission received the following electric rate filings:

Docket Numbers: ER10-1484-006; ER10-3081-003.

Applicants: Shell Energy North America (US), L.P., Equilon Enterprises LLC.

Description: Notice of Non-Material Change in Status of Shell Energy North America (US), L.P., et al.

Filed Date: 12/28/12.

Accession Number: 20121228-5257.

Comments Due: 5 p.m. ET 1/18/13.

Docket Numbers: ER10-1484-007.

Applicants: Shell Energy North America (US), L.P.

Description: Updated Market Power Analysis for the Southwest Power Pool Region of Shell Energy North America (US), L.P.

Filed Date: 12/28/12.

Accession Number: 20121228-5258.

Comments Due: 5 p.m. ET 2/26/13.

Docket Numbers: ER10-3168-004; ER13-445-001; ER11-4063-001; ER11-4060-001; ER11-4061-001.

Applicants: ArcLight Energy Marketing, LLC, Badger Creek Limited, Double “C” Limited, High Sierra Limited, Kern Front Limited.

Description: Updated Market Power Analysis for the Southwest Region of ArcLight Energy Marketing, LLC, et al.

Filed Date: 12/27/12.

Accession Number: 20121227-5113.

Comments Due: 5 p.m. ET 2/25/13.

Docket Numbers: ER11-3414-004.

Applicants: Blue Canyon Windpower LLC, Blue Canyon Windpower II LLC, Blue Canyon Windpower V LLC, Blue Canyon Windpower VI LLC, Cloud County Wind Farm, LLC.

Description: Blue Canyon Windpower LLC, et. al. submits Updated Market Power Analysis for Southwest Power Pool Region.

Filed Date: 12/27/12.

Accession Number: 20121227-5173.

Comments Due: 5 p.m. ET 2/25/13.

Docket Numbers: ER11-3576-007.

Applicants: Golden Spread Electric Cooperative, Inc.

Description: Updated Market Power Analysis to be effective 12/28/2012.

Filed Date: 12/28/12.

Accession Number: 20121228-5191.

Comments Due: 5 p.m. ET 2/26/13.

Docket Numbers: ER13-631-000.

Applicants: Blue Canyon Windpower LLC.

Description: First Revised MBR to be effective 12/28/2012.

Filed Date: 12/27/12.

Accession Number: 20121227-5152.

Comments Due: 5 p.m. ET 1/17/13.

Docket Numbers: ER13-632-000.

Applicants: Blue Canyon Windpower II LLC.

Description: First Revised MBR to be effective 12/28/2012.

Filed Date: 12/27/12.

Accession Number: 20121227-5154.

Comments Due: 5 p.m. ET 1/17/13.

Docket Numbers: ER13-634-000.

Applicants: Blue Canyon Windpower V LLC.

Description: First Revised MBR to be effective 12/28/2012.

Filed Date: 12/27/12.

Accession Number: 20121227-5156.

Comments Due: 5 p.m. ET 1/17/13.

Docket Numbers: ER13-635-000.

Applicants: Cloud County Wind Farm, LLC.

Description: First Revised MBR to be effective 12/28/2012.

Filed Date: 12/27/12.

Accession Number: 20121227-5157.

Comments Due: 5 p.m. ET 1/17/13.

Docket Numbers: ER13-665-000.

Applicants: Midwest Independent Transmission System Operator, Inc.

Description: 12-28-2012 LTTR ARR Filing to be effective 3/29/2013.

Filed Date: 12/28/12.

Accession Number: 20121228-5207.

Comments Due: 5 p.m. ET 1/18/13.

Docket Numbers: ER13-666-000.

Applicants: Public Service Company of Colorado.

Description: 2012-12-27-NSP-Tran-to Load-Master Agrmts-548 to be effective 1/1/2013.

Filed Date: 12/28/12.

Accession Number: 20121228-5208.

Comments Due: 5 p.m. ET 1/18/13.

Docket Numbers: ER13-667-000.

Applicants: Tucson Electric Power Company.

Description: Tucson Electric Filing to Add MBR Ancillary Service Category Status to be effective 2/26/2013.

Filed Date: 12/28/12.

Accession Number: 20121228-5209.

Comments Due: 5 p.m. ET 1/18/13.

Docket Numbers: ER13-668-000.

Applicants: UniSource Energy Development Company.

Description: UniSource Energy Development Company submits tariff filing per 35.13(a)(2)(iii): Unisource Energy Dev. Filing to Revise MBR Ancillary Service Category Status to be effective 2/26/2013.

Filed Date: 12/28/12.

Accession Number: 20121228-5210.

Comments Due: 5 p.m. ET 1/18/13.

Docket Numbers: ER13-669-000.

Applicants: Midwest Independent Transmission System Operator, Inc.

Description: Midwest Independent Transmission System Operator, Inc. submits tariff filing per 35.13(a)(2)(iii): 12-28-12 EE Filing to be effective 2/28/2013.

Filed Date: 12/28/12.

Accession Number: 20121228-5215.

Comments Due: 5 p.m. ET 1/18/13.

Docket Numbers: ER13-670-000.

Applicants: UNS Electric, Inc.

Description: UNS Electric, Inc. submits tariff filing per 35.13(a)(2)(iii): UNS Electric Filing to Revise MBR Ancillary Service Category Status to be effective 2/26/2013.

Filed Date: 12/28/12.

Accession Number: 20121228-5221.

Comments Due: 5 p.m. ET 1/18/13.

Docket Numbers: ER13-671-000.

Applicants: NorthWestern Corporation.

Description: NorthWestern Corporation submits tariff filing per 35.13(a)(2)(iii): SA 576—WKN Montana II LGIA—1st Revised to be effective 12/29/2012.

Filed Date: 12/28/12.

Accession Number: 20121228-5230.

Comments Due: 5 p.m. ET 1/18/13.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2012.
Nathaniel J. Davis, Sr.,
Deputy Secretary.

[FR Doc. 2013-00413 Filed 1-10-13; 8:45 am]

BILLING CODE 6717-01-P